DEPARTMENT OF HEALTH AND HUMAN SERVICES

National Institutes of Health

Menopause and Optimizing Midlife Health of Women

AGENCY: National Institutes of Health, HHS.

ACTION: Notice.

SUMMARY: This symposium is sponsored by the NIH Office of Research on Women's Health (ORWH), the title of this year's symposium is “Menopause and Optimizing Midlife Health of Women.” The symposium will discuss menopausal transition, accumulation of morbidity after menopause, menopause in special populations, social determinants of health, menopausal hormonal therapy, and interventions to promote healthy aging.

DATES: The meeting will be held on May 16, 2023, from 10 a.m. to 5 p.m.

ADDRESSES: The meeting will be virtual. Registration is available at https://nih.zoomgov.com/webinar/register/WN_YMa1r3QbSsiQ8scHfc4ixA. The meeting is viewable on NIH Videocast at https://videocast.nih.gov/watch=49307; no registration required.

FOR FURTHER INFORMATION CONTACT: For information concerning this meeting, see the ORWH website, https://orwh.od.nih.gov/about/newsroom/events/7th-annual-vivian-w-pinn-symposium, or contact Dr. Sarah Temkin, Associate Director for Clinical Research, Office of Research on Women's Health, 6707 Democracy Boulevard, Suite 400, Bethesda, MD 20817, telephone: 301-402-1770; email: sarah.temkin@nih.gov.

SUPPLEMENTARY INFORMATION: This Notice is in accordance with 42 U.S.C. 287d, of the Public Health Service Act, as amended. The 7th Annual Vivian W. Pinn Symposium honors the first full-time director of ORWH, Dr. Vivian Pinn, and is held during National Women's Health Week. This event serves as a critical forum for experts across sectors to communicate and collaborate for the advancement of women's health.

Providing the keynote address, “Menopausal Hormone Therapy: 30 Years of Lessons from the Women's Health Initiative,” is JoAnn Manson, M.D., Professor of Medicine at Harvard Medical School and Chief of the Division of Preventive Medicine, Department of Medicine at Brigham and Women's Hospital. A patient advocacy panel will discuss the patient perspective of menopause.

The objectives of the symposium are to:

• Familiarize attendees with state of the science related to our understanding of risk factors and mechanisms that lead to reproductive aging.

• Understand women's unique morbidity and multimorbidity burden to identify points of intervention.

• Identify the needs of populations at risk for iatrogenic menopause (patients with germline inherited cancer risk) and early or complex menopausal symptoms (patients living with HIV, chronic conditions, and cancer).

• Identify priorities to address unmet environmental and other exposures as it relates to menopausal transition and symptoms in diverse populations of women.

• Understand current recommendations on menopausal hormone therapy prescribing including when to start and stop, and formulations and durations of use.

Interested individuals can register at: https://nih.zoomgov.com/webinar/register/WN_YMa1r3QbSsiQ8scHfc4ixA. More information about the speakers and agenda can be found at https://orwh.od.nih.gov/about/newsroom/events/7th-annual-vivian-w-pinn-symposium. This event is free.

Dated: March 17, 2023.
Tara A. Schwetz,
Acting Principal Deputy Director, National Institutes of Health.

[FR Doc. 2023-05984 Filed 3-22-23; 8:45 am]

BILLING CODE 4140-01-P